OFFICE OF PERSONNEL MANAGEMENT

SES Performance Review Board

AGENCY: Office of Personnel Management.

ACTION: Notice.

SUMMARY: Notice is hereby given of the appointment of members of the OPM Performance Review Board.

FOR FURTHER INFORMATION CONTACT: Mark Reinhold, Center for Human Capital Management Services, Office of Personnel Management, 1900 E Street, NW., Washington, DC 20415, (202) 606-1402.

SUPPLEMENTARY INFORMATION: Section 4314(c)(1) through (5) of Title 5, U.S.C., requires each agency to establish, in accordance with regulations prescribed by the U.S. Office of Personnel Management, one or more SES performance review boards. The board reviews and evaluates the initial appraisal of a senior executive's performance by the supervisor, and considers recommendations to the appointing authority regarding the performance of the senior executive.

U.S. Office of Personnel Management.
Linda M. Springer,
Director.

The following have been designated as members of the Performance Review Board of the U.S. Office of Personnel Management:

Howard C. Weizmann, Deputy Director—Chair

Patricia L. Hollis, Chief of Staff and Director of External Affairs

Mark Reger, Chief Financial Officer

Robert F. Danbeck, Managing Director, Retirement Systems Modernization

Nancy H. Kichak, Associate Director, Strategic Human Resources Policy Division

Kevin E. Mahoney, Associate Director, Human Capital Leadership and Merit System Accountability Division

Kathy L. Dillaman, Associate Director, Federal Investigative Services Division

Ronald C. Flom, Associate Director, Management Services Division and Chief Human Capital Officer

Kerry B. McTigue, General Counsel

Mark D. Reinhold, Deputy Associate Director for Human Capital Management Services—Executive Secretariat

[FR Doc. E7-20636 Filed 10-19-07; 8:45 am]

BILLING CODE 6325-45-P